DEPARTMENT OF COMMERCE

International Trade Administration

[A-489-842]

Prestressed Concrete Steel Wire Strand From the Republic of Turkey: Notice of Correction to the Final Affirmative Determination of Sales at Less Than Fair Value

AGENCY: Enforcement and Compliance, International Trade Administration, Department of Commerce.

SUMMARY: The U.S. Department of Commerce (Commerce) is issuing a correction to a previously published Federal Register notice pertaining to the final determination of sales at less than fair value (LTFV) of prestressed concrete steel wire strand (PC strand) from the Republic of Turkey (Turkey).

DATES: Applicable December 11, 2020.

FOR FURTHER INFORMATION CONTACT: David Goldberger, AD/CVD Operations Office II, Enforcement and Compliance, International Trade Administration, U.S. Department of Commerce, 1401 Constitution Avenue NW, Washington, DC 20230; telephone: (202) 482-4136.

SUPPLEMENTARY INFORMATION: On December 11, 2020, Commerce published in the Federal Register the notice of the final determination of sales at LTFV of PC strand from Turkey and seven other countries.¹ In the Final Determinations, Commerce inadvertently failed to publish the adjusted cash deposit rates for the Turkey LTFV investigation after accounting for export subsidies in the companion countervailing duty investigation. The adjusted rates, along with the dumping margins, are included in the table below:

¹ See Prestressed Concrete Steel Wire Strand from Argentina, Colombia, Egypt, the Netherlands, Saudi Arabia, Taiwan, the Republic of Turkey, and the United Arab Emirates: Final Affirmative Determinations of Sales at Less Than Fair Value and Final Affirmative Critical Circumstances Determinations, in Part, 85 FR 80001 (December 11, 2020) (Final Determinations).

Exporter/producer | Dumping margin (percent) | Cash deposit rate ²
Turkey:
Celik Halat ve Tel Sanayi A.S | 53.65 | 44.60
Güney Çelik Hasir ve Demir | 53.65 | 44.60
All Others | 53.65 | 44.60

We are hereby correcting the Final Determinations to include the adjusted cash deposit rates listed above. Commerce intends to issue instructions to Customs and Border Protection (CBP) to correct the cash deposit rates applicable to entries of PC strand from Turkey which were entered, or withdrawn from warehouse, for consumption during the period December 11, 2020 through January 31, 2021 (i.e., the day before the date of publication of the antidumping duty order in the Federal Register, which included the adjusted cash deposit rate).³ Commerce also intends to issue instructions to CBP to authorize refunds of cash deposits, if requested by the importer. The refund amount will be calculated by determining the difference between the amount of cash deposits paid as a result of the application of the rates listed in the Final Determinations and the amount due as a result of the application of the corrected final determination rate.

² The cash deposit rates for Celik Halat ve Tel Sanayi A.S., Güney Çelik Hasir ve Demir (Güney Çelik), and the companies covered by the “All Others” rate are equal to the petition rate (53.65 percent) adjusted for the lowest rate of export subsidies found for any company in the most recently-completed segment in the companion countervailing duty proceeding, i.e, Güney Çelik's total export subsidies rate of 9.05 percent. See Prestressed Concrete Steel Wire Strand from the Republic of Turkey: Final Affirmative Countervailing Duty Determination and Final Negative Critical Circumstances Determination, 85 FR 80005 (December 11, 2020), and accompanying Issues and Decision Memorandum at 12-16; and Prestressed Concrete Steel Wire from the Republic of Turkey: Preliminary Affirmative Countervailing Duty Determination, Preliminary Affirmative Critical Circumstances Determination, in Part, 85 FR 59287 (September 21, 2020), and accompanying Preliminary Decision Memorandum at 18-20, 25-27, and 31-33.

³ See Prestressed Concrete Steel Wire Strand from Argentina, Colombia, Egypt, the Netherlands, Saudi Arabia, Taiwan, the Republic of Turkey, and the United Arab Emirates: Antidumping Duty Orders, 86 FR 7703, 7704 (February 1, 2021).

This notice serves as a correction and is published in accordance with section 777(i) of the Tariff Act of 1930, as amended.

Dated: February 22, 2021.
James Maeder,
Deputy Assistant Secretary for Antidumping and Countervailing Duty Operations.

[FR Doc. 2021-03999 Filed 2-25-21; 8:45 am]

BILLING CODE 3510-DS-P